DEPARTMENT OF HEALTH AND HUMAN SERVICES

Administration for Children and Families

Agency Recordkeeping/Reporting Requirements Under Emergency Review by the Office of Management and Budget (OMB)

Title: Head Start Family and Child Experiences Survey (FACES).

OMB No.: Revision of a currently approved collection (OMB No. 0970-0151).

Description: The Administration on Children, Youth and Families (ACYF), Administration for Children and Families (ACF) of the Department of Health and Human Services (DHHS) is requesting comments on plans to extend the Head Start Family and Child Experiences Survey (FACES). This study is being conducted under contract with Westat, Inc. (with Ellsworth Associates and the CDM Group as their subcontractors) (#105-96-1912) to collect information on Head Start performances measures. This revision is intended to extend the current design to a national probability sample of 43 additional Head Start programs in order to ascertain what progress has been made since 1997 in meeting Head Start program performance goals.

FACES currently involves seven phases of data collection. The first phase was a Spring 1997 Field test in which approximately 2400 parents and children were studied in a nationally stratified random samples of 40 Head Start programs. The second and third phases occurred in Fall 1997 (Wave 1) and Spring 1998 (Wave 2) when data were collected on a sample of 3200 children and families in the same 40 programs. Spring 1998 data collection included assessments of both Head Start children completing kindergarten (kindergarten field test) as well as interviews with their parents and ratings by their kindergarten teachers. In the fourth and fifth phases, follow-up continued for a second program year, plus a kindergarten follow-up. The sixth and seventh waves of data collection involve data collection in spring of the first-grade year for both cohorts of children, those completing kindergarten in spring 1999, and those completing kindergarten in spring 2000. The current plan is to extend data collection to a new cohort of 2825 children and families in a new sample of 43 Head Start programs.

This schedule of data collection is necessitated by the mandates of the Government Performance and Results Act (GPRA) of 1993 (Pub. L. 103-62), which requires that the Head Start Bureau move expeditiously toward development and testing of Head Start Performance Measures, and by the 1994 reauthorization of Head Start (Head Start Act, as amended, May 18, 1994, Section 649 (d)), which requires periodic assessments of Head Start's quality and effectiveness.

Respondents: Federal Government, Individuals or Households, and Not-for-profit institutions.

Annual Burden Estimates

Estimated Response Burden for Respondents to the Head Start Family and Child Experiences Survey (FACES 2000)—Fall 2000, Spring 2001, Spring 2002, Spring 2003

Instrument | Number of respondents | Number of responses per respondent | Average burden hours per response | Total burden hours
Year 1 (2000):
Head Start Parents | 2825 | 1 | 1.00 | 2825
Head Start Children | 2825 | 1 | 0.66 | 1865
Head Start Teachers (Child ratings) | 195 | 14 | 0.25 | 706
Center Directors | 172 | 1 | 1.00 | 172
Education Coordinators | 172 | 1 | 0.75 | 129
Classroom Teachers | 195 | 1 | 1.00 | 195
Year 2 (2001):
Head Start Parents | 2400 | 1 | 0.75 | 1800
Head Start Children | 2400 | 1 | 0.66 | 1584
Head Start Teachers (child ratings) | 195 | 12 | 0.25 | 600
Family Services Coordinators | 172 | 1 | 0.75 | 129
Year 3 (2002):
Head Start Parents | 800 | 1 | 0.75 | 600
Head Start Children | 800 | 1 | 0.66 | 528
Head Start Teachers (child ratings) | 65 | 12 | 0.25 | 200
Kindergarten Parents | 1600 | 1 | 0.75 | 1200
Kindergarten Children | 1600 | 1 | 0.75 | 1200
Kindergarten Teachers | 1600 | 1 | 0.50 | 800
Year 4 (2003):
Kindergarten Parents | 800 | 1 | 0.75 | 600
Kindergarten Children | 800 | 1 | 0.75 | 600
Kindergarten Teachers | 800 | 1 | 0.50 | 400

Annualized Totals:

Year 1, 5892

Year 2, 4113

Year 3, 4528

Year 4, 1600

Estimated Total Annual Burden Hours: 4033

Note: The 4033 Total Annual Burden Hours is based on an average of 2000, 2001, 2002, and 2003 estimated burden hours:

Additional Information: ACF is requesting that OMB grant a 180 day approval for this information collection under procedures from emergency processing by September 15, 2000. A copy of this information collection, with applicable supporting documentation, may be obtained by calling the Administration for Children and Families, Reports Clearance Officer, Bob Sargis at (202) 690-7275. In addition, a request may be made by sending an e-mail request to: rsargis@acf.dhhs.gov.

Comments and questions about the information collection described above should be directed to the following address by September 15, 2000: Office of Information and Regulatory Affairs, Office of Management and Budget, Paperwork Reduction Project, 725 17th Street, NW., Washington, DC 20503, Attn: OMB Desk Officer for ACF.

Dated: July 25, 2000.
Bob Sargis,
Reports Clearance Officer.

[FR Doc. 00-19097 Filed 7-27-00; 8:45 am]

BILLING CODE 4184-01-M